DEPARTMENT OF ENERGY

Federal Energy Regulatory Commission

[Docket No. ER01-1579-001]

California Independent System Operator Corporation; Notice of Filing

April 11, 2001.

Take notice that on March 29, 2001, the California Independent System Operator Corporation (ISO), tendered for filing an errata filing concerning the ISO's March 20, 2001 filing in the above-referenced docket. The errata filing provides a tariff sheet which deletes a section number inadvertently included in the same numbered sheet in the March 20, 2001 filing.

The ISO states that this filing has been served upon the Public Utilities Commission of California, the California Energy Commission, the California Electricity Oversight Board, and upon all parties with effective Scheduling Coordinator Service Agreements under the ISO Tariff.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 19, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9657 Filed 4-18-01; 8:45 am]

BILLING CODE 6717-01-M